DEPARTMENT OF COMMERCE

National Oceanic and Atmospheric Administration

RIN 0648-XE092

Fisheries of the South Atlantic; Southeast Data, Assessment and Review (SEDAR); Public Meeting

AGENCY: National Marine Fisheries Service (NMFS), National Oceanic and Atmospheric Administration (NOAA), Commerce.

ACTION: Notice of SEDAR Procedural Workshop 7: SEDAR Data Best Practices post-workshop webinar #3.

SUMMARY: A post workshop webinar #3 will be held as a follow up to the SEDAR Procedural Workshop 7 to develop best practice recommendations for SEDAR Data Workshops that was held on June 22-26, 2015 in Atlanta, GA. See SUPPLEMENTARY INFORMATION.

DATES: The SEDAR Procedural Workshop 7 post-workshop webinar #3 will be held on Tuesday, September 1, 2015, from 10 a.m. until 12 p.m. The established times may be adjusted as necessary to accommodate the timely completion of discussion relevant to the procedural workshop. Such adjustments may result in the meeting being extended from, or completed prior to the time established by this notice. See SUPPLEMENTARY INFORMATION.

ADDRESSES: Meeting address: The meeting will be held via webinar. The webinar is open to members of the public. Those interested in participating should contact Julia Byrd at SEDAR (see FOR FURTHER INFORMATION CONTACT) to request an invitation providing webinar access information. Please request webinar invitations at least 24 hours in advance of each webinar.

SEDAR address: 4055 Faber Place Drive, Suite 201, North Charleston, SC 29405.

FOR FURTHER INFORMATION CONTACT: Julia Byrd, SEDAR Coordinator, phone: (843) 571-4366; email: julia.byrd@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR is a three step process including: (1) Data Workshop; (2) Assessment Process utilizing workshops and webinars; and (3) Review Workshop.

SEDAR also coordinates procedural workshops which provide an opportunity for focused discussion and deliberation on topics that arise in multiple assessments. They are structured to develop best practices for addressing common issues across assessments. The seventh procedural workshop and subsequent post workshop webinars will develop best practice recommendations for SEDAR Data Workshops.

Workshop objectives include developing an inventory of common or recurring data and analysis issues from SEDAR Data Workshops; documenting how the identified data and analysis issues were addressed in the past and identifying potential additional methods to address these issues; developing and selecting best practice procedures and approaches for addressing these issues in future, including procedures and approaches to follow when deviating from best practice recommendations; and identifying process to address future revision and evaluation of workshop recommendations, considering all unaddressed data and analysis issues. The post-workshop webinar #3 will be held to finalize best practice recommendations from the workshop.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SEDAR office (see ADDRESSES) at least 10 business days prior to the meeting.

Note: The times and sequence specified in this agenda are subject to change.

Authority: 16 U.S.C. 1801 et seq.

Dated: August 11, 2015.
Tracey L. Thompson,
Acting Deputy Director, Office of Sustainable Fisheries, National Marine Fisheries Service.

[FR Doc. 2015-20071 Filed 8-13-15; 8:45 am]

BILLING CODE 3510-22-P